DEPARTMENT OF COMMERCE

National Oceanic and Atmospheric Administration

[I.D. 031400B]

Endangered Species; Permits

AGENCY: National Marine Fisheries Service (NMFS), National Oceanic and Atmospheric Administration (NOAA), Commerce.

ACTION: Receipt of an application for a scientific research permit (1245); receipt of applications to modify permits (1194, 1212); and receipt of a modification to an application to modify a permit (994).

SUMMARY: Notice is hereby given of the following actions regarding permits for takes of endangered and threatened species for the purposes of scientific research and/or enhancement:

NMFS has received a permit application from Mr. J. David Whitaker, of South Carolina Department of Natural Resources (SCDNR) (1245); NMFS has received applications for permit modifications from Northwest Fisheries Science Center, NMFS at Seattle, WA (NWFSC)(1194, 1212); and NMFS has received an amendment to an application for permit modifications from the Idaho Cooperative Fish and Wildlife Research Unit at Moscow, ID (ICFWRU) (994).

DATES: Comments or requests for a public hearing on the new application or any of the modification requests must be received at the appropriate address or fax number (see ADDRESSES) no later than 5:00 p.m. eastern standard time on April 20, 2000.

ADDRESSES: Written comments on the new application or any of the modification requests should be sent to the appropriate office as indicated below. Comments may also be sent via fax to the number indicated for the application or modification request. Comments will not be accepted if submitted via e-mail or the internet. The applications and related documents are available for review in the indicated office, by appointment:

For permits 994, 1194, and 1212: Protected Resources Division, F/NWO3, 525 NE Oregon Street, Suite 500, Portland, OR 97232-2737 (ph: 503-230-5400, fax: 503-230-5435).

For permit 1245: Office of Protected Resources, Endangered Species Division, F/PR3, 1315 East-West Highway, Silver Spring, MD 20910 (ph: 301-713-1401, fax: 301-713-0376).

Documents may also be reviewed by appointment in the Office of Protected Resources, F/PR3, NMFS, 1315 East-West Highway, Silver Spring, MD 20910-3226 (301-713-1401).

FOR FURTHER INFORMATION CONTACT: For permits 994, 1194, and 1212: Robert Koch, Portland, OR (ph: 503-230-5424, fax: 503-230-5435, e-mail: Robert.Koch@noaa.gov).

For permit 1245: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Sea Turtles

Endangered green turtle (Chelonia mydas), endangered Kemp's ridley turtle (Lepidochelys kempii), endangered leatherback turtle (Dermochelys coriacea), threatened loggerhead turtle (Caretta caretta).

Fish

Sockeye salmon (Oncorhynchus nerka): endangered Snake River (SnR).

Chinook salmon (O. tshawytscha): threatened SnR spring/summer; threatened SnR fall; endangered upper Columbia River (UCR) spring; threatened lower Columbia River (LCR).

Steelhead (O. mykiss): threatened SnR; endangered UCR; threatened middle Columbia River (MCR); threatened LCR.

To date, final protective regulations for threatened LCR chinook salmon and SnR, MCR, and LCR steelhead under section 4(d) of the ESA have not been promulgated by NMFS. Protective regulations are currently proposed for threatened LCR chinook salmon (65 FR 169, January 3, 2000) and threatened SnR, MCR, and LCR steelhead (64 FR 73479, December 30, 1999). This notice of receipt of applications requesting takes of these species is issued as a precaution in the event that NMFS issues final protective regulations that prohibit takes of threatened LCR chinook salmon and threatened SnR, MCR, and LCR steelhead. The initiation of a 30-day public comment period on the applications, including their proposed takes of threatened LCR chinook salmon and threatened SnR, MCR, and LCR steelhead does not presuppose the contents of the eventual final protective regulations.

New Applications Received

SCDNR (1245) has requested a 3-year permit to establish scientifically valid indices of abundance for the northern sub-population of the loggerhead, Kemp's ridley, green and leatherback sea turtles which occur in the Atlantic Ocean off the southeastern United States. This study is intended to capture juveniles and adults, thereby providing a more comprehensive assessment of total population abundance and an assessment of the health of individual animals.

Modification Requests Received

NWFSC requests a modification to ESA section 10(a)(1)(A) scientific research permit 1194. Permit 1194 authorizes NWFSC annual takes of adult artificially propagated SnR spring/summer chinook salmon and adult artificially propagated UCR steelhead associated with an evaluation of passive integrated transponder (PIT) tag interrogation systems at Bonneville Dam on the Columbia River in the Pacific Northwest. The objectives of the study are to evaluate the ability of the prototype tag detection systems to detect PIT-tagged adult salmon passing through the facility and evaluate the effects of the detection system on adult behavior as they approach and pass through the system. For the modification, NWFSC requests an annual take of adult UCR spring chinook salmon associated with the research. ESA-listed adult chinook salmon are proposed to be captured, tagged with PITs and non-permanent visual markers, released, and monitored from above or underwater with video cameras. The modification is requested to be valid for the duration of the permit, which expires on December 31, 2003.

NWFSC requests a modification to ESA section 10(a)(1)(A) scientific research permit 1212. Permit 1212 authorizes NWFSC annual takes of juvenile SnR sockeye salmon; juvenile naturally produced and artificially propagated SnR spring/summer chinook salmon; juvenile SnR fall chinook salmon; and juvenile naturally produced and artificially propagated UCR steelhead associated with four studies at the hydropower dams on the Snake and Columbia Rivers in the Pacific Northwest. The goal of Study 1 is to provide up-to-date survival estimates of juvenile salmonids as they migrate past McNary Dam on the Columbia River. The goal of Study 2 is to evaluate the specific trouble areas in the juvenile fish bypass system at Lower Monumental Dam on the Snake River. The goal of Study 3 is to compare the performance of juvenile salmonids tagged with Sham radiotransmitters with juvenile salmonids tagged with PITs at Lower Granite Dam on the Snake River. The goal of Study 4 is to determine tailrace residence times of radio-tagged hatchery chinook salmon under varying operational conditions at Lower Monumental Dam and to identify spill conditions that utilize the smallest volumes of water to maximize fish passage efficiency at Ice Harbor Dam on the Snake River. The research will provide information that will be used to develop corrective measures to improve juvenile fish passage at the dams. For the modification, NWFSC requests a take of juvenile MCR steelhead associated with Study 1. ESA-listed juvenile steelhead are proposed to be captured at McNary Dam, sampled for biological information, and released. ESA-listed juvenile steelhead indirect mortalities associated with the research are also requested. The modification is requested to be valid for the duration of the permit, which expires on December 31, 2003.

Amendment to Modification Request Received

On September 25, 1998, NMFS published a notice in the Federal Register (63 FR 51340) that an application was received from ICFWRU for a modification to ESA section 10(a)(1)(A) scientific research permit 994. Permit 994 authorizes ICFWRU annual takes of adult SnR sockeye salmon; adult SnR spring/summer and fall chinook salmon; and adult UCR steelhead associated with scientific research designed to assess the passage success and homing behavior of adult salmonids that migrate upriver past the eight dams and reservoirs in the lower Columbia and lower Snake Rivers, evaluate specific flow and spill conditions, and evaluate measures to improve adult anadromous fish passage. For the modification, ICFWRU requested a take of adult SnR steelhead associated with the scientific research. The modification to permit 994 has not yet been issued because a final rule providing take prohibitions for SnR steelhead under section 4(d) of the ESA has not been published by NMFS. NMFS has received an amendment of ICFWRU's application for modifications to permit 994. In the application amendment, ICFWRU requests an increase in the take of adult SnR sockeye salmon associated with a new study designed to monitor the passage of adult sockeye salmon returning to the upper Salmon River in Idaho. ESA-listed adult sockeye salmon are proposed to be captured at Lower Granite Dam on the Snake River, tagged with radiotransmitters and identifier tags, released, and tracked electronically. Also for the application amendment, ICFWRU requests takes of adult UCR spring chinook salmon; adult LCR chinook salmon; adult MCR steelhead; and adult LCR steelhead associated with the sampling effort at Bonneville Dam on the Columbia River. The modification as amended is requested to be valid for the duration of the permit, which expires on December 31, 2000.

Dated: March 14, 2000.
Wanda L. Cain,
Chief, Endangered Species Division, Office of Protected Resources, National Marine Fisheries Service.

[FR Doc. 00-6983 Filed 3-20-00; 8:45 am]

BILLING CODE 3510-22-F